ENVIRONMENTAL PROTECTION AGENCY

[EPA-HQ-OAR-2002-0091; FRL 9530-8]

Information Collection Request Submitted to OMB for Review and Approval; Comment Request; Ambient Air Quality Surveillance (Renewal)

AGENCY: Environmental Protection Agency (EPA).

ACTION: Notice.

SUMMARY: The Environmental Protection Agency has submitted an information collection request (ICR), “Nitrogen Oxides Ambient Air Monitoring (Renewal)” (EPA ICR No. 2358.04, OMB Control No. 2060-0638) to the Office of Management and Budget (OMB) for review and approval in accordance with the Paperwork Reduction Act (44 U.S.C. 3501 et seq.). This is a proposed extension of the ICR, which is currently approved through April 30, 2013. This ICR is being submitted to OMB concurrently with the renewal for the “Ambient Air Quality Surveillance” ICR (EPA ICR Number 0940.27, OMB Control Number 2060-0084). The renewal for the Ambient Air Quality Surveillance ICR will incorporates the requirements and burden currently approved under the Nitrogen Oxides Ambient Monitoring ICR (OMB# 2060-0638, EPA ICR Number 2358.03) and the Sulfur Dioxides Ambient Monitoring ICR (OMB# 2060-0642, EPA ICR Number 2370.02). Public comments were previously requested via the Federal Register (78 FR 12052) on February 21, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before May 29, 2013.

ADDRESSES: Submit your comments, referencing Docket ID number EPA-HQ-OAR-2002-0091, to (1) EPA online using www.regulations.gov (our preferred method), by Email to a-and-r-docket@epa.gov, or by mail to: EPA Docket Center, Environmental Protection Agency, Air and Radiation Docket, Mail Code 28221T, 1200 Pennsylvania Avenue NW., Washington, DC 20460, and (2) OMB by mail to: Office of Information and Regulatory Affairs, Office of Management and Budget (OMB), Attention: Desk Officer for EPA, 725 17th Street NW., Washington, DC 20503.

EPA's policy is that all comments received will be included in the public docket without change including any personal information provided, unless the comment includes profanity, threats, information claimed to be Confidential Business Information (CBI) or other information whose disclosure is restricted by statute.

FOR FURTHER INFORMATION CONTACT: Laurie Trinca, Air Quality Analysis Division (C304-06), Environmental Protection Agency; telephone number (919) 541-0520; fax number: 919-541-1903; email address: trinca.laurie@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: This Information Collection Request (ICR) includes ambient air monitoring data and other supporting measurements reporting and recordkeeping activities associated with the 40 CFR part 58 Ambient Air Quality Surveillance rule. These data and information are collected by various State and local air quality management agencies, and Tribal entities and reported to the Office of Air Quality Planning and Standards within the Office of Air and Radiation, U.S. EPA.

The data collected through this information collection consist of ambient air concentration measurements for the seven air pollutants with National Ambient Air Quality Standards (i.e., ozone, sulfur dioxide, nitrogen dioxide, lead, carbon monoxide, PM2.5 and PM-10), ozone precursors, meteorological variables at a select number of sites and other supporting measurements. Accompanying the pollutant concentration data are quality assurance/quality control data and air monitoring network design information.

The U.S. EPA and others (e.g., State and local air quality management agencies, tribal entities, environmental groups, academic institutions, industrial groups) use the ambient air quality data for many purposes, including informing the public and other interested parties of an area's air quality, judging an area's (e.g., county, city, neighborhood) air quality in comparison with the established health or welfare standards (including both national and local standards), evaluating an air quality management agency's progress in achieving or maintaining air pollutant levels below the national and local standards, developing and revising State Implementation Plans (SIPs) in accordance with 40 CFR part 51, evaluating air pollutant control strategies, developing or revising national control policies, providing data for air quality model development and validation, supporting enforcement actions, documenting episodes and initiating episode controls, air quality trends assessment, and air pollution research.

The State and local agencies and tribal entities with responsibility for reporting ambient air quality data and information as requested in this ICR submit these data electronically to the U.S. EPA's Air Quality System (AQS) database. Quality assurance/quality control records and monitoring network documentation are also maintained by each State and local agency, in AQS electronic format where possible.

Respondents/Affected Entities: State and local air pollution agencies and Tribal entities.

Respondent's obligation to respond: Mandatory.

Estimated Number of Respondents: 142.

Frequency of Response: Quarterly, but may occur more frequently.

Total Estimated Annual Hour Burden: 49,474 hours. Burden is defined at 5 CFR 1320.3(b).

Total Estimated Annual Cost: $3,261,007. This includes an estimated labor cost of $2,737,485 and an estimated cost of $523,522 for operations and maintenance and capital costs.

John Moses,
Director, Collection Strategies Division.

[FR Doc. 2013-10009 Filed 4-26-13; 8:45 am]

BILLING CODE 6560-50-P